DEPARTMENT OF EDUCATION

Notice of Proposed Information Collection Requests; Institute of Education Sciences; Needs Sensing Survey Under the REL Program: Sample Survey Instrument for School Board Members and District Administrators

SUMMARY: The needs assessment consists of an online survey of a sample of school board members, district administrators, principals, and teachers in Illinois, Indiana, Iowa, Michigan, Minnesota, Ohio, and Wisconsin. The purpose of the sample survey is to assess: the importance these populations attach to the four issues identified in advance by REL Midwest as priorities for the region; for each issue, the types of data and analysis supports, and research and evaluation needs which respondents anticipate would be of particular value; and what factors would increase the likelihood respondents and the populations they represent would turn to the REL for data and analysis supports, or research and evaluation needs in the future. The results of the survey will be used to prioritize the assistance that REL Midwest provides to educators in the region for utilizing their longitudinal data systems, conducting high quality research and evaluation; learning about the best education research; and incorporating data into policy and practice.

DATES: Interested persons are invited to submit comments on or before October 29, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04922. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Needs Sensing Survey under the REL program: (Sample survey Instrument for School Board Members and District Administrators.

OMB Control Number: 1850-NEW.

Type of Review: New.

Total Estimated Number of Annual Responses: 2,240.

Total Estimated Number of Annual Burden Hours: 983.

Abstract: The needs assessment consists of an online survey of a sample of school board members, district administrators, principals, and teachers in Illinois, Indiana, Iowa, Michigan, Minnesota, Ohio, and Wisconsin. The purpose of the sample survey is to assess: the importance these populations attach to the four issues identified in advance by REL Midwest as priorities for the region; for each issue, the types of data and analysis supports, and research and evaluation needs which respondents anticipate would be of particular value; and what factors would increase the likelihood respondents and the populations they represent would turn to the REL for data and analysis supports, or research and evaluation needs in the future. The results of the survey will be used to prioritize the assistance that REL Midwest provides to educators in the region for utilizing their longitudinal data systems, conducting high quality research and evaluation; learning about the best education research; and incorporating data into policy and practice.

Dated: August 24, 2012.
Stephanie Valentine,
Acting Director, Information Collection Clearance Division, Privacy, Information and Records Management Services, Office of Management.

[FR Doc. 2012-21309 Filed 8-28-12; 8:45 am]

BILLING CODE 4000-01-P